DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 2, 2008.

Interested persons are invited to submit written comments regarding the subject matter of the investigations to the Director, Division of Trade Adjustment Assistance, at the address shown below, not later than September 2, 2008.

The petitions filed in this case are available for inspection at the Office of the Director, Division of Trade Adjustment Assistance, Employment and Training Administration, U.S. Department of Labor, Room C-5311, 200 Constitution Avenue, NW., Washington, DC 20210.

Signed at Washington, DC, this 14th day of August 2008.
Linda G. Poole,
Certifying Officer, Division of Trade Adjustment Assistance.

Appendix
[TAA petitions instituted between 8/4/08 and 8/8/08]
TA-W | Subject firm (petitioners) | Location | Date of institution | Date of petition
63793 | General Motors Shreveport Assembly Plant (State) | Shreveport, LA | 08/04/08 | 08/01/08
63794 | Norwalk Furniture Corporation (Comp) | Norwalk, OH | 08/04/08 | 07/23/08
63795 | Hasco America, Inc. (Wkrs) | Arden, NC | 08/04/08 | 08/01/08
63796 | Brady People ID (State) | Burlington, MA | 08/04/08 | 07/28/08
63797 | Avaya (State) | Basking Ridge, NJ | 08/04/08 | 08/01/08
63798 | Intelicoat Technologies, LLC (IUECWA) | So. Hadley, MA | 08/04/08 | 06/13/08
63799 | HBPO North America, Inc. (Comp) | Fenton, MO | 08/04/08 | 08/01/08
63800 | Columbia Falls Aluminum Company, LLC (Comp) | Columbia Falls, MT | 08/04/08 | 08/01/08
63801 | Dakkota Integrated Systems, LLC (Comp) | Kirkwood, MO | 08/04/08 | 08/01/08
63802 | AFA Products D/B/A Continental AFA Dispensing Company (Rep) | Forest City, NC | 08/04/08 | 08/01/08
63803 | Manufacturers Industrial Group Wires (Wkrs) | Chattanooga, TN | 08/04/08 | 08/01/08
63804 | Lanier Clothes (Comp) | Tupelo, MS | 08/05/08 | 08/04/08
63805 | International Paper Company—Pensacola Mill (USW) | Cantonment, FL | 08/05/08 | 07/31/08
63806 | Core Molding Technologies (State) | Gaffney, SC | 08/05/08 | 08/04/08
63807 | RFMD—QA (Comp) | Greensboro, NC | 08/05/08 | 07/31/08
63808 | Soft Socks, Inc. (Comp) | Burlington, NC | 08/05/08 | 08/01/08
63809 | Panasonic Motor Company (Comp) | Berea, KY | 08/05/08 | 08/01/08
63810 | Specialty Shearing and Dyeing Inc. (Comp) | Greenville, SC | 08/05/08 | 08/04/08
63811 | H. B. Fuller Company (USW) | Paducah, KY | 08/05/08 | 08/04/08
63812 | Progressive Molded Products, Inc. (UAW) | St. Joseph, MO | 08/05/08 | 07/14/08
63813 | Experian (Wkrs) | Costa Mesa, CA | 08/05/08 | 07/21/08
63814 | TI Industries, Inc. (Comp) | Lexington, NC | 08/05/08 | 08/04/08
63815 | Krack Corporation (Ingersoll-Rand) (Wkrs) | Addison, IL | 08/05/08 | 07/28/08
63816 | CPU2, LLC (Wkrs) | Arden, NC | 08/05/08 | 07/29/08
63817 | JHP Transport, LLC (Comp) | Myerstown, PA | 08/05/08 | 07/30/08
63818 | Delphi—Lockport (UAW) | Lockport, NY | 08/06/08 | 08/04/08
63819 | Jakel, Inc. (Wkrs) | Murray, KY | 08/06/08 | 08/04/08
63820 | Blue Water Automotive Systems, Inc. (Wkrs) | Caro, MI | 08/06/08 | 08/04/08
63821 | MSSC, LLC (State) | Marion, IL | 08/06/08 | 06/03/08
63822 | ACN Communications (Wkrs) | Concord, NC | 08/06/08 | 08/05/08
63823 | Eva Airways Corporation (Wkrs) | El Segundo, CA | 08/06/08 | 07/22/08
63824 | Modern Plastics Corporation (Wkrs) | Benton Harbor, MI | 08/06/08 | 07/25/08
63825 | Accuride International, Inc. (Comp) | Santa Fe Springs, CA | 08/06/08 | 08/05/08
63826 | Belcom Forest Products, Inc. (Comp) | Shelton, WA | 08/06/08 | 07/23/08
63827 | Motorola, Inc. (State) | Schaumburg, IL | 08/06/08 | 08/04/08
63828 | Lear Corporation (UAW) | Liberty, MO | 08/06/08 | 07/14/08
63829 | Carlisle Publishing Services (Comp) | Dubuque, IA | 08/06/08 | 08/04/08
63830 | Robert Bosch Tool Corporation (Comp) | Lincolnton, NC | 08/06/08 | 08/05/08
63831 | OTC International Ltd. (Wkrs) | Long Island City, NY | 08/06/08 | 07/22/08
63832 | Care Stream Health Xray (State) | Windsor, CO | 08/07/08 | 08/06/08
63833 | CMA Actuation Products (Comp) | Philipsburg, PA | 08/07/08 | 08/06/08
63834 | Norwalk Furniture Corporation/Hickory Hill Furniture (Comp) | Fulton, MS | 08/07/08 | 07/25/08
63835 | Megtec Systems, Inc. (State) | Vero Beach, FL | 08/08/08 | 08/07/08
63836 | Weyerhaeuser Company I—Level (UBCJA) | Eugene, OR | 08/08/08 | 07/20/08
63837 | Dolly, Inc. (Comp) | Tipp City, OH | 08/08/08 | 08/05/08
63838 | International Rectifier (Wkrs) | El Segundo, CA | 08/08/08 | 07/29/08
63839 | Blue Water Automotive Systems, Inc. (Rep) | Howell, MI | 08/08/08 | 08/07/08
63840 | Intermec Technologies Corporation (Comp) | Everett, WA | 08/08/08 | 07/30/08

[FR Doc. E8-19404 Filed 8-20-08; 8:45 am]

BILLING CODE 4510-FN-P